NEIGHBORHOOD REINVESTMENT CORPORATION

Regular Board of Directors Meeting; Sunshine Act

TIME AND DATE: 2:00 p.m., Monday, October 1, 2012.

PLACE: 1325 G Street NW., Suite 800, Boardroom, Washington, DC 20005.

STATUS: Open.

CONTACT PERSON FOR MORE INFORMATION: Erica Hall, Assistant Corporate Secretary (202) 220-2376; ehall@nw.org

AGENDA:

I. Call to Order

II. Executive Session

III. Approval of the Annual Board of Directors Meeting Minutes

IV. Approval of the Corporate Administration Committee Meeting Minutes

V. Approval of the Finance, Budget & Program Committee Meeting Minutes

VI. Approval of the Audit Committee Meeting Minutes

VII. Motion to Approve Treasury Partnership

VIII. Approval of FY 2013 Budget

IX. Election of Vice Chair and Audit Committee Chair

X. Financial Report

XI. All Staff Video

XII. 35th Anniversary

XIII. DC Lease Discussion & Update

XIV. Homeownership Business Model

XV. Discussion on Honoring Elected Officials

XVI. Management Report

XVII. Milestone Report & Dashboard

XVIII. NFMC & EHLP

XIX. Adjournment

Erica Hall,
Assistant Corporate Secretary.

[FR Doc. 2012-23306 Filed 9-18-12; 4:15 pm]

BILLING CODE 7570-02-P